DEPARTMENT OF HEALTH AND HUMAN SERVICES

Agency for Healthcare Research and Quality

Nursing Home Care Planning Technical Expert Panel Meeting

AGENCY: Agency for Healthcare Research and Quality, HHS.

ACTION: Notice of public meeting.

SUMMARY: The Agency for Healthcare Research and Quality (AHRQ), Center for Quality Improvement and Patient Safety (CQulPS) will convene a technical expert panel (TEP) to discuss nursing home care planning and quality improvement research options for advancing this process in order to maximize quality of nursing home care. The authority for this meeting is derived from 42 U.S.C. 299b-1 and 299 which respectively authorize AHRQ to provide scientific and technical support to improve health care quality and to promote improvements in health system practices by synthesizing and disseminating available scientific information to providers and policymakers and by conducting and supporting research on methods and strategies for improving quality.

DATES: This meeting will take place on October 12, 2004 from 8:45 a.m.-5 p.m. and October 13 from 9 a.m.-3:30 p.m. The meeting is open to the public and a 30 minute public comment period is scheduled starting at 3 p.m. on the first day and 2:30 p.m. on the second day of the meeting.

Due to security measures and space constraints, it will be necessary for you to pre-register to attend the meeting. For pre-registration information please contact the meeting contractor, Karen Sofer at (301) 231-7537, ext. 260, by 11 a.m. on Monday, October 11. You will need to bring a picture ID with you. Please note that persons attempting to attend without prior registration will not be admitted to the meeting.

ADDRESSES: Please note that individuals interested in attending the meeting without prior registration will not be admitted to the meeting. The meeting will be at the AHRQ Conference Center, Watts Branch Conference Room, 540 Gaither Road, Rockville, MD 20850. Please also be advised that seating is very limited and food will be available for panelists and Agency staff. A report of the meeting will be made available to the public after the meeting.

For driving and public transportation directions, please visit http://www.ahrq.gov/aout/map.htm. There is a shuttle from the Shady Grove Metro stop. For those driving, parking is $4.00. You must enter the parking lot at the “Redland Center” entrance on Gaither Road, about one-eighth mile from Redland Boulevard.

FOR FURTHER INFORMATION CONTACT: Judith Sangl (301) 427-1308.

SUPPLEMENTARY INFORMATION: The panel will concentrate on improving the overall framework for care planning in nursing homes. They will cover topics of patient-centered care, Resident Assessment Protocols (RAPs) format, clinical utility and ease of use (but not the specific content detail of the RAPs), informatics and decision support for care planning, and interdisciplinary planning.

Dated: October 5, 2004.
Carolyn M. Clancy,
Director.

[FR Doc. 04-22729 Filed 10-6-04; 8:45 am]

BILLING CODE 4160-90-M